DEPARTMENT OF COMMERCE

International Trade Administration

[A-570-967]

Aluminum Extrusions From the People's Republic of China: Partial Rescission of Antidumping Duty Administrative Review

AGENCY: Enforcement and Compliance, International Trade Administration, Department of Commerce.

DATES: Effective Date: January 29, 2015.

SUMMARY: On June 27, 2014, the Department of Commerce (the Department) published in the Federal Register a notice of initiation of an administrative review of the antidumping duty (AD) order on aluminum extrusions from the People's Republic of China (PRC), based on multiple timely requests for an administrative review.¹ The review covers 155 companies. Based on the timely withdrawal of the requests for review of certain companies, we are now rescinding this administrative review with respect to the 116 companies identified in the Appendix to this notice.²

¹ See Initiation of Antidumping and Countervailing Duty Administrative Reviews, 79 FR 36462 (June 27, 2014) (Initiation Notice).

² The Department no longer considers the NME entity as an exporter conditionally subject to administrative review. See Antidumping Proceedings: Announcement of Change in Department Practice for Respondent Selection in Antidumping Duty Proceedings and Conditional Review of the Nonmarket Economy Entity in NME Antidumping Duty Proceedings, 78 FR 65963 (November 4, 2013).

FOR FURTHER INFORMATION CONTACT: Deborah Scott or Robert James, AD/CVD Operations, Office VI, Enforcement and Compliance, International Trade Administration, U.S. Department of Commerce, 14th Street and Constitution Avenue NW., Washington, DC 20230, telephone: (202) 482-2657 or (202) 482-0649, respectively.

SUPPLEMENTARY INFORMATION:

Background

On May 26, 2011, the Department published in the Federal Register the AD order on aluminum extrusions from the PRC.³ The Department received timely requests for an administrative review of the Order and on June 27, 2014, in accordance with section 751(a) of the Tariff Act of 1930, as amended (the Act), the Department published in the Federal Register a notice of the initiation of an administrative review of the Order.⁴ The administrative review was initiated with respect to 155 companies or groups of companies, and covers the period from May 1, 2013 through April 30, 2014 (POR). On September 25, 2014, the Aluminum Extrusions Fair Trade Committee (Petitioner) timely withdrew its request for administrative review with respect to 114 companies.⁵ Three other interested parties also timely withdrew their requests for administrative review with respect to four companies.⁶ While there are a number of companies which remain under review, the requesting parties timely withdrew all review requests for certain companies, as discussed below.

³ See Aluminum Extrusions From the People's Republic of China: Antidumping Duty Order, 76 FR 30650 (May 26, 2011) (Order).

⁴ See Initiation Notice.

⁵ See Letter from Petitioner to the Department, “Aluminum Extrusions From the People's Republic of China: Withdrawal of Request for Administrative Review,” dated September 25, 2014. In prior segments of this proceeding, the Department found that two of the 114 companies, Karlton Aluminum Company Ltd. (Karlton) and Xinya Aluminum & Stainless Steel Product Co., Ltd. (Xinya), were part of the single entity comprised of Guang Ya Aluminium Industries Co., Ltd., Foshan Guangcheng Aluminium Co., Ltd., Kong Ah International Company Limited, and Guang Ya Aluminium Industries (Hong Kong) Ltd. (collectively, Guang Ya Group); Guangdong Zhongya Aluminum Company Limited, Zhongya Shaped Aluminium (HK) Holding Limited, and Karlton (collectively, Zhongya); and Xinya (collectively, Guang Ya Group/Zhongya/Xinya). Because the other companies comprising the Guang Ya Group/Zhongya/Xinya collapsed entity remain under review, the Department cannot rescind the review with respect to Karlton and Xinya.

⁶ See Letter from Delphi Automotive Systems, LLC to the Department, “Aluminum Extrusions From the People's Republic of China; Third Antidumping Duty Administrative Review (POR: 5/1/13-4/30/14); Withdrawal of Review Request,” dated September 19, 2014; Letter from RMD Kwikform North America Inc. to the Department, “RMD Kwikform North America Inc.'s Withdrawal of Request for Administrative Review; Case No. A-570-967 Antidumping Order on Aluminum Extrusions From the People's Republic of China,” dated September 22, 2014; and Letter from Homax Group, Inc. to the Department, “Aluminum Extrusions From the People's Republic of China: Withdrawal of Request for Administrative Review,” dated September 24, 2014.

Rescission of Review, in Part

Pursuant to 19 CFR 351.213(d)(1), the Secretary will rescind an administrative review, in whole or in part, if the party that requested the review withdraws its request within 90 days of the date of publication of the notice of initiation of the requested review. Petitioner withdrew its request for an administrative review of 112 companies listed in the Appendix.⁷ Petitioner was the only party to request a review of these companies. Further, three other interested parties withdrew their requests for an administrative review of four companies listed in the Appendix. These three parties were the only parties to request a review of these four companies. Accordingly, the Department is rescinding this review, in part, with respect to these 116 entities, in accordance with 19 CFR 351.213(d)(1).⁸

⁷ As noted in the “Background” section of this notice, Petitioner timely withdrew its request for administrative review with respect to 114 companies. However, the Department cannot rescind the review with respect to two of these companies, Karlton and Xinya, because they are part of the Guang Ya Group/Zhongya/Xinya collapsed entity, and the other companies comprising that entity remain under review.

⁸ See Appendix.

Assessment

The Department will instruct U.S. Customs and Border Protection (CBP) to assess antidumping duties on all appropriate entries. For the companies for which this review is rescinded, antidumping duties shall be assessed at rates equal to the cash deposit of estimated antidumping duties required at the time of entry, or withdrawal from warehouse, for consumption, in accordance with 19 CFR 351.212(c)(1)(i). The Department intends to issue appropriate assessment instructions directly to CBP 15 days after publication of this notice.

Notification to Importers

This notice serves as the only reminder to importers for whom this review is being rescinded, as of the publication date of this notice, of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding Administrative Protective Orders

This notice also serves as a reminder to parties subject to administrative protective orders (APO) of their responsibility concerning the return or destruction of proprietary information disclosed under APO in accordance with 19 CFR 351.305, which continues to govern business proprietary information in this segment of the proceeding. Timely written notification of the return or destruction of APO materials or conversion to judicial protective order is hereby requested. Failure to comply with the regulations and terms of an APO is a violation which is subject to sanction.

Notification to Interested Parties

This notice is issued and published in accordance with sections 751 and 777(i)(l) of the Act and 19 CFR 351.213(d)(4).

Dated: January 13, 2015.
Christian Marsh,
Deputy Assistant Secretary for Antidumping and Countervailing Duty Operations.

Appendix

Companies for which we are rescinding this administrative review:

Withdrawn by Petitioner

(1) Acro Import and Export Co.

(2) Activa International Inc.

(3) Alnan Aluminium Co., Ltd.

(4) Changshu Changshen Aluminium Products Co., Ltd.

(5) Changzhou Tenglong Auto Parts Co., Ltd.

(6) Chiping One Stop Industrial & Trade Co., Ltd.

(7) Clear Sky Inc.

(8) Cosco (J.M.) Aluminium Co., Ltd.

(9) Dragonluxe Limited

(10) Dynabright lnternational Group (HK) Limited

(11) Dynamic Technologies China Ltd.

(12) First Union Property Limited

(13) Foreign Trade Co. of Suzhou New & Hi-Tech Industrial Development Zone

(14) Foshan City Nanhai Hongjia Aluminum Alloy Co., Ltd.

(15) Foshan Jinlan Aluminum Co., Ltd.

(16) Foshan JMA Aluminum Company Limited

(17) Foshan Sanshui Fenglu Aluminium Co., Ltd.

(18) Foshan Shunde Aoneng Electrical Appliances Co., Ltd.

(19) Foshan Yong Li Jian Alu. Ltd.

(20) Fujian Sanchuan Aluminum Co., Ltd.

(21) Global PMX Dongguan Co., Ltd.

(22) Global Point Technology (Far East) Limited

(23) Gran Cabrio Capital Pte. Ltd.

(24) Gree Electric Appliances

(25) GT88 Capital Pte. Ltd.

(26) Guangdong Hao Mei Aluminium Co., Ltd.

(27) Guangdong Jianmei Aluminum Profile Company Limited

(28) Guangdong JMA Aluminum Profile Factory (Group) Co., Ltd.

(29) Guangdong Nanhai Foodstuffs Imp. & Exp. Co., Ltd.

(30) Guangdong Weiye Aluminum Factory Co., Ltd.

(31) Guangdong Whirlpool Electrical Appliances Co., Ltd.

(32) Guangdong Xingfa Aluminium Co., Ltd.

(33) Guangdong Xin Wei Aluminum Products Co., Ltd.

(34) Guangdong Yonglijian Aluminum Co., Ltd.

(35) Guangzhou Mingcan Die-Casting Hardware Products Co., Ltd.

(36) Hangzhou Xingyi Metal Products Co., Ltd.

(37) Hanwood Enterprises Limited

(38) Hanyung Alcobis Co., Ltd.

(39) Hao Mei Aluminum Co., Ltd.

(40) Hao Mei Aluminum International Co., Ltd.

(41) Henan New Kelong Electrical Appliances Co., Ltd.

(42) Hong Kong Gree Electric Appliances Sales Limited

(43) Honsense Development Company

(44) Hui Mei Gao Aluminum Foshan Co., Ltd.

(45) Idex Dinglee Technology (Tianjin Co., Ltd.)

(46) Idex Health

(47) Innovative Aluminium (Hong Kong) Limited

(48) iSource Asia

(49) Jiangmen Qunxing Hardware Diecasting Co., Ltd.

(50) Jiangsu Changfa Refrigeration Co., Ltd.

(51) Jiangyin Trust International Inc.

(52) Jiangyin Xinhong Doors and Windows Co., Ltd.

(53) Jiaxing Jackson Travel Products Co., Ltd.

(54) Jiaxing Taixin Metal Products Co., Ltd.

(55) Jiuyuan Co., Ltd.

(56) JMA (HK) Company Limited

(57) Kanal Precision Aluminum Product Co., Ltd.

(58) Kunshan Giant Light Metal Technology Co., Ltd.

(59) Liaoning Zhongwang Group Co., Ltd.

(60) Liaoyang Zhongwang Aluminum Profiles Co. Ltd.

(61) Longkou Donghai Trade Co., Ltd.

(62) Midea Air Conditioning Equipment Co., Ltd.

(63) Midea International Trading Co., Ltd.

(64) Miland Luck Limited

(65) Nanhai Textiles Import & Export Co., Ltd.

(66) New Asia Aluminum & Stainless Steel Product Co., Ltd.

(67) Nidec Sankyo (Zhejiang) Corporation

(68) Ningbo Coaster International Co., Ltd.

(69) Ningbo Hi Tech Reliable Manufacturing Company

(70) Ningbo Yili Import and Export Co., Ltd.

(71) North China Aluminum Co., Ltd.

(72) Northern States Metals

(73) PanAsia Aluminium (China) Limited

(74) Pengcheng Aluminum Enterprise Inc.

(75) Pingguo Aluminum Company Limited

(76) Pingguo Asia Aluminum Co., Ltd.

(77) Popular Plastics Co., Ltd.

(78) Samuel, Son & Co., Ltd.

(79) Sanchuan Aluminum Co., Ltd.

(80) Shangdong Huasheng Pesticide Machinery Co.

(81) Shangdong Nanshan Aluminum Co. Ltd.

(82) Shanghai Canghai Aluminum Tube Packaging Co., Ltd.

(83) Shanghai Dongsheng Metal

(84) Shanghai Shen Hang Imp. & Exp. Co., Ltd.

(85) Shanghai Tongtai Precise Aluminum Alloy Manufacturing Co., Ltd.

(86) Shenzhen Hudson Technology Development Co., Ltd.

(87) Shenzhen Jiuyuan Co., Ltd.

(88) Sihui Shi Guo Yao Aluminum Co., Ltd.

(89) Sincere Profit Limited

(90) Skyline Exhibit Systems (Shanghai) Co., Ltd.

(91) Suzhou JRP Import & Export Co., Ltd.

(92) Suzhou New Hongji Precision Part Co.

(93) Tai-Ao Aluminium (Taishan) Co., Ltd.

(94) Taizhou Lifeng Manufacturing Corporation

(95) Taogoasei America Inc./Toagoasei America Inc.

(96) Tianjin Ganglv Nonferrous Metal Materials Co., Ltd.

(97) Tianjin Ruixin Electric Heat Transmission Technology, Ltd.

(98) Tianjin Xiandai Plastic & Aluminum Products Co., Ltd.

(99) Tiazhou Lifeng Manufacturing Corporation/Taizhou Lifeng Manufacturing Corporation, Ltd.

(100) Top-Wok Metal Co., Ltd.

(101) Traffic Brick Network, LLC

(102) USA Worldwide Door Components (Pinghu) Co., Ltd.

(103) Wenzhou Shengbo Decoration & Hardware

(104) Whirlpool (Guangdong)

(105) Zhaoqing Asia Aluminum Factory Company Ltd.

(106) Zhaoqing China Square Industrial Ltd.

(107) Zhejiang Anji Xinxiang Aluminum Co., Ltd.

(108) Zhejiang Yongkang Listar Aluminium Industry Co., Ltd.

(109) Zhejiang Zhengte Group Co., Ltd.

(110) Zhenjiang Xinlong Group Co., Ltd.

(111) Zhongshan Gold Mountain Aluminium Factory Ltd.

(112) Zhuhai Runxingtai Electrical Equipment Co., Ltd.

Withdrawn by Interested Parties Other Than Petitioner

(113) Jiangsu Susun Group (HK) Co., Ltd.

(114) Ningbo Lakeside Machinery Factory

(115) Ningbo Minmetals & Machinery Imp. & Exp. Corp.

(116) Shanghai Automobile Air Conditioner Accessories Ltd.

[FR Doc. 2015-01727 Filed 1-28-15; 8:45 am]

BILLING CODE 3510-DS-P